DEPARTMENT OF THE INTERIOR

Fish and Wildlife Service

50 CFR Part 20

[Docket No. FWS-R9-MB-2012-0005; FF09M21200-123-FXMB1231099BPP0L2]

RIN 1018-AX97

Migratory Bird Hunting; Meeting Regarding Regulations for the 2012-13 Hunting Season

AGENCY: Fish and Wildlife Service, Interior.

ACTION: Proposed rule; notice of meeting date change.

SUMMARY: We, the U.S. Fish and Wildlife Service (Service), proposed in an earlier document to establish annual hunting regulations for certain migratory game birds for the 2012-13 hunting season. This notice revises the previously announced dates of the June 2012 Service Migratory Bird Regulations Committee meetings.

DATES: The Service Migratory Bird Regulations Committee (SRC) will meet to consider and develop proposed regulations for early-season migratory bird hunting on June 19 and 20, 2012. The meetings are open to the public and will commence at approximately 8:30 a.m.

ADDRESSES: The SRC will meet in room 200 of the U.S. Fish and Wildlife Service's Arlington Square Building, 4401 N. Fairfax Dr., Arlington, VA.

FOR FURTHER INFORMATION CONTACT: Ron W. Kokel, U.S. Fish and Wildlife Service, Department of the Interior, MS MBSP-4107-ARLSQ, 1849 C Street NW., Washington, DC 20240; (703) 358-1714.

SUPPLEMENTARY INFORMATION:

Background

On April 17, 2012, we published in the Federal Register (77 FR 23094) a proposal to amend 50 CFR part 20. The proposal provided a background and overview of the migratory bird hunting regulations process and addressed the establishment of seasons, limits, and other regulations for hunting migratory game birds under §§ 20.101 through 20.107, 20.109, and 20.110 of subpart K. On May 17, 2012, we published the second in a series of proposed, supplemental, and final rules for migratory game bird hunting regulations (77 FR 29516). In that document, we announced a meeting of the SRC to take place June 20 and 21, 2012. The dates of that meeting have now changed: The SRC will meet June 19 and 20, 2012, at the location indicated above in ADDRESSES.

Service Migratory Bird Regulations Committee Meetings

At the June 19-20, 2012, meeting, the SRC will review information on the current status of migratory shore and upland game birds and develop recommendations for the 2012-13 migratory game bird regulations for these species, plus regulations for migratory game birds in Alaska, Puerto Rico, and the Virgin Islands. The SRC will also develop regulations recommendations for September waterfowl seasons in designated States, special sea duck seasons in the Atlantic Flyway, and extended falconry seasons. In addition, the SRC will review and discuss preliminary information on the status of waterfowl. In accordance with Departmental policy, these meetings are open to public observation. You may submit written comments to the Service on the matters discussed. See the May 17, 2012, Federal Register document (77 FR 29516) for information regarding how to submit comments.

Authority

We publish this supplementary proposed rule document under the authority of 16 U.S.C. 703-711, 16 U.S.C. 712, and 16 U.S.C. 742 a-j.

Dated: June 6, 2012.
Eileen Sobeck,
Acting Assistant Secretary for Fish and Wildlife and Parks.

[FR Doc. 2012-14288 Filed 6-11-12; 8:45 am]

BILLING CODE 4310-55-P